MORRIS K. UDALL AND STEWART L. UDALL FOUNDATION

Sunshine Act Meetings

TIME AND DATE: 10 a.m. to 12 p.m. (MST), Friday, November 20, 2020.

PLACE: The offices of the Morris K. Udall and Stewart L. Udall Foundation, 130 South Scott Avenue, Tucson, AZ 85701.

STATUS: This meeting will be open to the public. Due to COVID-19, visitors are currently prohibited from entering the Udall Foundation offices. Members of the public who would like to attend this meeting should contact Elizabeth Monroe at monroe@udall.gov prior to November 20 to request the teleconference connection information.

MATTERS TO BE CONSIDERED: (1) Call to Order and Chair's Remarks; (2) Executive Director's Remarks; (3) Remarks from Senator Tom Udall; (4) Consent Agenda Approval (Minutes of the April 15, 2020, Board of Trustees Meeting; Board Reports submitted for Education Programs; Finance and Management; John S. McCain III National Center for Environmental Conflict Resolution; Native Nations Institute for Leadership, Management, and Policy and their Work Plan; Udall Archives; and Udall Center for Studies in Public Policy and their Work Plan; and resolutions regarding Allocation of Funds to the Udall Center for Studies in Public Policy and Funds Set Aside for the Native Nations Institute for Leadership, Management, and Policy; and Board takes notice of any new and updated personnel policies and internal control methodologies); (5) Discuss and Act on Amendments to the Operating Procedures of the Board of Trustees of the Morris K. Udall and Stewart L. Udall Foundation and a resolution to adopt the amendments; (6) Trustee Ethics Training Instructions; (7) Discussion of 2022-2026 Strategic Plan Process and Timeline; (8) Finance & Internal Controls Update; and (9) Education Programs.

CONTACT PERSON FOR MORE INFORMATION: David P. Brown, Executive Director, 130 South Scott Avenue, Tucson, AZ 85701, (520) 901-8500.

Dated: November 3, 2020.
David P. Brown,
Executive Director, Morris K. Udall and Stewart L. Udall Foundation, and Federal Register Liaison Officer.

[FR Doc. 2020-24773 Filed 11-3-20; 4:15 pm]

BILLING CODE 6820-FN-P